DEPARTMENT OF LABOR

Employment and Training Administration

[TA-W-74,250]

Charming Shoppes of Delaware, Inc. Accounts Payable, Rent, Merchandise Disbursement Divisions, and Payroll Department Within the Shared Service Center, Bensalem, PA; Amended Certification Regarding Eligibility To Apply for Worker Adjustment Assistance

In accordance with Section 223 of the Trade Act of 1974, as amended (“Act”), 19 U.S.C. 2273, the Department of Labor issued a Certification of Eligibility to Apply for Worker Adjustment Assistance on June 30, 2010, applicable to workers of Charming Shoppes of Delaware, Inc., including the Accounts Payable, Rent, and Merchandise Disbursement Divisions within the Shared Service Center, Bensalem, Pennsylvania. The Department's notice of determination was published in the Federal Register on July 16, 2010 (75 FR 41526).

At the request of a company official, the Department reviewed the certification for workers of the subject firm. The workers, all of the same division, are engaged in activities related to the supply of accounts payable, rent, merchandise disbursement services, and payroll.

The company reports that workers engaged in activities related to the supply of payroll services were inadvertently excluded from the certification decision.

The amended notice applicable to TA-W-74,250 is hereby issued as follows:

All workers of Charming Shoppes of Delaware, Inc., including the Accounts Payable, Rent, Merchandise Disbursement Divisions, and Payroll Department within the Shared Service Center, Bensalem, Pennsylvania who became totally or partially separated from employment on or after June 15, 2009 through June 30, 2012, and all workers in the group threatened with total or partial separation from employment on date of certification through two years from the date of certification, are eligible to apply for adjustment assistance under Chapter 2 of Title II of the Trade Act of 1974, as amended.

Signed in Washington, DC, this 24th day of November 2010.
Elliott S. Kushner,
Certifying Officer, Office of Trade Adjustment Assistance.

[FR Doc. 2010-30536 Filed 12-6-10; 8:45 am]

BILLING CODE 4510-FN-P